DEPARTMENT OF ENERGY

Federal Energy Regulatory Commission

[Docket No. EC02-66-000, et al.]

Central Illinois Light Company, et al.; Electric Rate and Corporate Regulation Filings

May 7, 2002.

The following filings have been made with the Commission. The filings are listed in ascending order within each docket classification.

1. Central Illinois Light Company; Central Illinois Generation, Inc.

[Docket No. EC02-66-000; Docket No. EL02-85-000]

Take notice that on April 29, 2002 Central Illinois Light Company (CILCO), 300 Liberty Street, Peoria, IL 61602, and its subsidiary, Central Illinois Generation, Inc. (CIGI), 17751 North CILCO Road, Canton, IL 61520, filed with the Federal Energy Regulatory Commission (Commission) an application pursuant to Section 203 of the Federal Power Act for authorization to transfer jurisdictional assets. In connection with CILCO's transfer to CIGI of the Edwards, Duck Creek, and Sterling generation facilities with a net generating capacity of 1,136 MW, CILCO will transfer jurisdictional transmission assets associated with the generation facilities. This disposition will be accomplished by a contribution of assets. In addition, CIGI requests waiver of the Commission's Standards of Conduct and OASIS requirements in Order Nos. 888 and 889.

Comment Date: May 20, 2002.

2. Western Area Power Administration, Pacific Gas and Electric Company and Trans-Elect, Inc.

[Docket No. ER02-1672-000]

Take notice that on April 30, 2002, Western Area Power Administration, Pacific Gas and Electric Company and Trans-Elect, Inc. (Project Participants) tendered for filing with the Federal Energy Regulatory Commission (Commission), pursuant to Section 205 of the Federal Power Act and Section 35.13 of the Commission's Rules and Regulations, the Path 15 Upgrade Project Participant's Letter Agreement . This Letter Agreement is an essential ingredient in the Path 15 Upgrades Project. It identifies the parties' obligations, expected rate methodologies and a blueprint for continued progress. The Project Participants state that it has served copies of this filing upon the California Public Utilities Commission and the California Independent System Operator Corporation.

Comment Date: May 21, 2002.

3. Kansas Gas and Electric Company

[Docket No. ES02-21-002]

Take notice that on April 29, 2002, Kansas Gas and Electric Company submitted an amendment to its original application in this proceeding, pursuant to section 204 of the Federal Power Act. The amendment modifies the application by replacing Exhibits C, D, and E containing financial information as of, or for the period ended, December 31, 2001.

Comment Date: May 21, 2002.

4. Kansas Gas and Electric Company

[Docket No. ES02-22-002]

Take notice that on April 29, 2002, Kansas Gas and Electric Company submitted an amendment to its original application in this proceeding, pursuant to section 204 of the Federal Power Act. The amendment modifies the application by replacing Exhibits C, D, and E containing financial information as of, or for the period ended, December 31, 2001.

Comment Date: May 21, 2002.

5. Western Resources, Inc.

[Docket No. ES02-23-002]

Take notice that on April 29, 2002, Western Resources, Inc. submitted an amendment to its original application in this proceeding, pursuant to section 204 of the Federal Power Act. The amendment modifies the application by replacing Exhibits C, D, and E containing financial information as of, or for the period ended, December 31, 2001.

Comment Date: May 21, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-11948 Filed 5-13-02; 8:45 am]

BILLING CODE 6717-01-P